DEPARTMENT OF THE INTERIOR

Bureau of Land Management

[AZ-956-04-1420-BJ]

Arizona, Notice of Filing of Plats of Survey

June 28, 2004.

1. The plats of survey of the following described land were officially filed in the Arizona State Office, Phoenix, Arizona, on the dates indicated:

A plat representing the dependent resurvey of a portion of the subdivisional lines, the subdivision of section 27, and a metes-and-bounds survey in section 27, Township 2 North, Range 7 East of the Gila and Salt River Meridian, Arizona, accepted April 8, 2004 and officially filed April 14, 2004.

This plat was prepared at the request of the Arizona Game & Fish Department.

A plat representing the dependent resurvey of the East, West and North Boundaries, the subdivisional lines, and a portion of the boundary of Management District Number 6, Hopi Indian Reservation, Township 30 North, Range 18 East of the Gila and Salt River Meridian, Arizona, accepted June 8, 2004 and officially filed June 18, 2004.

This plat was prepared at the request of the Bureau of Indian Affairs, Western Regional Office.

A plat representing the dependent resurvey of the Sixth Standard Parallel North, (South Boundary) the survey of the East, West, and North Boundaries, and the subdivisional lines, Township 25 North, Range 23 East of the Gila and Salt River Meridian, Arizona, accepted March 30, 2004 and officially filed April 7, 2004.

This plat was prepared at the request of the Bureau of Indian Affairs, Navajo Regional Office.

A plat representing the survey of the East, West, and North Boundaries, and the subdivisional lines, Township 26 North, Range 23 East of the Gila and Salt River Meridian, Arizona, accepted March 30, 2004 and officially filed April 7, 2004.

This plat was prepared at the request of the Bureau of Indian Affairs, Navajo Regional Office.

A plat representing the survey of the East, West and North Boundaries and the subdivisional lines, Township 27 North, Range 23 East of the Gila and Salt River Meridian, Arizona, accepted May 27, 2004 and officially filed June 4, 2004.

This plat was prepared at the request of the Bureau of Indian Affairs, Navajo Regional Office.

A plat representing the dependent resurvey of a portion of the Sixth Standard Parallel North, (South Boundary), Township 25 North, Range 29 East of the Gila and Salt River Meridian, Arizona, accepted April 12, 2004 and officially filed April 16, 2004.

This plat was prepared at the request of the Bureau of Indian Affairs, Navajo Regional Office.

A plat representing the dependent resurvey of the South Boundary and a portion of the subdivisional lines and the survey of the East and West Boundaries and a portion of the subdivisional lines in Township 24 North, Range 30 East of the Gila and Salt River Meridian, Arizona, accepted May 18, 2004 and officially filed May 26, 2004.

This plat was prepared at the request of the Bureau of Indian Affairs, Navajo Regional Office.

A plat representing the dependent resurvey of a portion of the Sixth Standard Parallel North, (South Boundary), Township 25 North, Range 30 East of the Gila and Salt River Meridian, Arizona, accepted April 12, 2004 and officially filed April 16, 2004.

This plat was prepared at the request of the Bureau of Indian Affairs, Navajo Regional Office.

2. All inquiries related to these lands should be sent to the Arizona State Office, Bureau of Land Management, 222 N. Central Avenue, P.O. Box 1552, Phoenix, Arizona 85001-1552.

Kenny D. Ravnikar,
Chief Cadastral Surveyor of Arizona.

[FR Doc. 04-15280 Filed 7-6-04; 8:45 am]

BILLING CODE 4310-32-P